DEPARTMENT OF TRANSPORTATION

Federal Aviation Administration

Public Notice for Release of Aeronautical Property at the Wilkes-Barre/Scranton International Airport (AVP), Avoca, PA

AGENCY: Federal Aviation Administration (FAA), DOT.

ACTION: Request for public comment.

SUMMARY: The Federal Aviation Administration is requesting public comment on the Bi-County Board of Commissioners of Luzerne and Lackawanna Counties request to release airport property and granting right-of-way easements for use by the Pennsylvania Department of Transportation (PennDOT) to construct an access roadway and required drainage facilities. The request consists of a permanent release of land (16.037 acres) for the roadway construction, a right-of-way drainage easement (0.2 acre) for the highway, and a right-of-way easement (0.183 acre) for the substitute sewer (supersedes previous easement) for the Lower Lackawanna Valley Sanitary Authority.

The parcel is located in the Borough of DuPont and Pittstown Township, Luzerne County within the existing Wilkes-Barre/Scranton International Airport property and consists of three areas. The first area is located southeast of the northbound off ramp (exit 178A) of Interstate 81 near its intersection with Terminal Road (SR 2059) to Navy Way Road then along the Navy Way Road alignment south to the Lidy Road intersection with Gedrich Street containing approximately 8 +/− acres. The second area is located southeast of Laurel Lane and extends southeast under the Wilkes-Barre/Scranton International Airport approach light towers and the wooded area to the Pennsylvania Turnpike Northeast Extension containing approximately 8 +/− acres. The third area is located northwest of Campbell Street along Interstate 81 and the pedestrian bridge over Interstate 81 containing approximately 0.26 +/− acres. This release request is for the purpose of permitting the Airport Owner to sell and convey title of 16.037 acres for public roadway, 0.20 acres for a drainage easement associated with the highway and 0.183 acres for a substitute sewer easement displaced due to the public road for a total of 16.42 acres.

The Wilkes-Barre/Scranton International Airport will receive fair market value from the sale of the land. Areas impacted are not needed for aeronautical use for current or foreseeable future aeronautical activities.

Documents reflecting the Sponsor's request are available, by appointment only, for inspection at the Airport Managers office and the FAA Harrisburg Airport District Office.

DATES: Comments must be received on or before March 1, 2013.

ADDRESSES: Documents are available for review at the Airport Manager's office: Barry J. Centini, Airport Director, Wilkes-Barre/Scranton International Airport, 100 Terminal Drive, Avoca, PA, 570-602-2000; and at the FAA Harrisburg Airports District Office: Lori K. Pagnanelli, Manager, Harrisburg Airports District Office, 3905 Hartzdale Dr., Suite 508, Camp Hill, PA 17011, (717) 730-2830.

FOR FURTHER INFORMATION CONTACT: Brian J. Gearhart, Project Manager at the Harrisburg Airports District Office location listed above.

SUPPLEMENTARY INFORMATION: The FAA invites public comment on the release of land and right-of-way easements at the Wilkes-Barre/Scranton International Airport, Avoca, Pennsylvania at fair market value under the provisions of Section 47125(a) of Title 49 United States Code (U.S.C.).

Approximately 8+/− acres of the property is currently non-aeronautical use vacant land and access roadway and approximately 8+/− acres of the property is aeronautical use and is under the approach near the Approach Lighting System for Runway 4. The requested release is for the purpose of permitting the Sponsor to sell and convey an easement for the subject 16.42 Acres to be used as a public road. The majority of the parcel was acquired with Federal participation through grant (9-36-034-C407) issued on September 25, 1963 for parcels 52A, 52B, and 52C; grant (6-42-0105-12) issued on September, 1980 for parcels 19, 20 and 27; and grant (3-42-0105-06-85) issued on December 13, 1984 for parcel 50. There are no known adverse impacts to the operation of the airport and the land is not needed for any foreseeable future aeronautical development as shown on the current approved Wilkes-Barre/Scranton International Airport Layout Plan (ALP). All sales proceeds are to remain on the airport for eligible Airport Improvement Program projects at the airport.

Any person may inspect the request by appointment at the FAA office address listed above. Interested persons are invited to comment on the proposed release from obligations. All comments will be considered by the FAA to the extent practicable.

Issued in Camp Hill, Pennsylvania, January 18, 2013.
Lori K. Pagnanelli,
Manager, Harrisburg Airports District Office.

[FR Doc. 2013-02040 Filed 1-29-13; 8:45 am]

BILLING CODE P